ENVIRONMENTAL PROTECTION AGENCY

40 CFR Part 300

[FRL-7238-4]

National Oil and Hazardous Substances Pollution Contingency Plan; National Priorities List

AGENCY: Environmental Protection Agency.

ACTION: Direct final deletion of the Hopkins Farm Superfund Site from the National Priorities List.

SUMMARY: The Environmental Protection Agency (EPA), Region 2, announces the deletion of the Hopkins Farm Superfund Site (Site), located in Plumsted Township, Ocean County, New Jersey, from the National Priorities List (NPL) and requests public comment on this action.

The NPL is appendix B of the National Oil and Hazardous Substances Pollution Contingency Plan (NCP), 40 CFR part 300, which EPA promulgated pursuant to section 105 of the Comprehensive Environmental Response, Compensation and Liability Act (CERCLA) of 1980, as amended. This Direct Final Notice of Deletion is being published by EPA with the concurrence of the State of New Jersey, through the New Jersey Department of Environmental Protection (NJDEP). EPA and NJDEP have determined that all appropriate response actions under CERCLA have been completed and, therefore, no further cleanup pursuant to CERCLA is required. Moreover, EPA and NJDEP have determined that the Site poses no significant threat to public health or the environment.

DATES: This direct final deletion will be effective August 27, 2002,unless EPA receives adverse comments by July 29, 2002. If significant adverse comments are received, EPA will publish a timely withdrawal of the direct final deletion in the Federal Register, informing the public that the deletion will not take effect.

ADDRESSES: Comments may be mailed to: Mr. Trevor Anderson, Remedial Project Manager, Emergency and Remedial Response Division, U.S. Environmental Protection Agency, Region 2, 290 Broadway, 19th Floor, New York, NY 10007-1866.

Information Repositories: Comprehensive information about the Site is available for viewing and copying at the Site information repositories, located at:

U.S. Environmental Protection Agency, Region 2, Superfund Records Center, 290 Broadway, Room 1828, New York, New York 10007-1866, 212-637-4308. Hours: 9 am to 5 pm—Monday through Friday By Appointment

and,

New Egypt Library, 10 Evergreen Road, New Egypt, New Jersey 08533, 609-758-7888. Hours: 10 am to 5 pm—Monday through Friday

and,

New Jersey Department of Environmental Protection, Central File Room—CN 413, 401 East State Street, Trenton, New Jersey 08625, 609-292-0400. Requires 24-hour notification.

FOR FURTHER INFORMATION CONTACT: Mr. Trevor Anderson, Remedial Project Manager, U.S. EPA, Region 2, 290 Broadway, 19th Floor, New York, NY 10007-1866, (212) 637-4425; fax: (212) 637-4429; e-mail: anderson.trevor@epa.gov.

SUPPLEMENTARY INFORMATION:

Table of Contents

I. Introduction

II. NPL Deletion Criteria

III. Deletion Procedures

IV. Basis for Site Deletion

V. Deletion Action

I. Introduction

EPA Region 2 announces the deletion of the Hopkins Farm Superfund Site from the NPL. EPA maintains the NPL as the list of those Sites that appear to present a significant risk to public health or the environment. Sites on the NPL can have remedial actions financed by the Hazardous Substances Superfund Response Trust Fund. As described in Section 300.425(e)(3) of the NCP, a Site deleted from the NPL remains eligible for remedial actions if conditions at the Site warrant such action.

EPA considers this action to be noncontroversial and routine, and therefore, EPA is taking it without prior publication of a Notice of Intent to Delete. This action will be effective August 27, 2002, unless EPA receives significant adverse comments by July 29, 2002, on this action. If significant adverse comments are received within the 30-day public comment period of this action, EPA will publish a timely withdrawal of this Direct Final Deletion before the effective date of the deletion and the deletion will not take effect. EPA will, if appropriate, prepare a response to comments and continue with the deletion process on the basis of the Notice Intent to Delete and the comments already received. There will be no additional opportunity to comment.

Section II of this document explains the criteria for deleting Sites from the NPL. Section III discusses procedures EPA is using for this action. Section IV discusses the Hopkins Farm Superfund Site and demonstrates how it meets the deletion criteria.

II. NPL Deletion Criteria

Section 300.425(e) of the NCP provides that Sites may be deleted from the NPL where no further response is appropriate. In making this determination, EPA, in consultation with the State, shall consider whether any of the following criteria have been met:

(i) Responsible parties or other parties have implemented all appropriate response actions required; or

(ii) All appropriate Fund-financed responses under CERCLA have been implemented, and no further response action by responsible parties is appropriate; or

(iii) The remedial investigation has shown that the release poses no significant threat to public health or the environment and, therefore, taking remedial measures is not appropriate.

EPA will not conduct any further reviews of this Site because EPA believes that this Site is suitable for unlimited use and unrestricted exposure. If new information becomes available which indicates a need for further action, EPA may initiate such actions based upon § 300.425(e)(3) of the NCP.

III. Deletion Procedures

The following procedures apply to deletion of the Site:

1. In January 1987, the NJDEP initiated a Remedial Investigation/Feasibility Study (RI/FS) to characterize and evaluate Site contamination.

2. On August 23, 1991, NJDEP entered into an Administrative Consent Order with Morton Thiokol, Incorporated (Morton) to conduct a removal action at the Site. Morton was required to remove waste material from the Site. In 1994, Morton completed the removal action and collected post removal data.

3. In July 1996, EPA completed a Baseline Risk Assessment to evaluate human health risks associated with both current and future land use.

4. On September 27, 1996, EPA issued a Record of Decision (ROD) which selected a no further action remedy for the Site and included a monitoring program to monitor the groundwater, surface water, and sediment to confirm that residual contamination remained below levels of concern.

5. The required monitoring was completed in March 2001. The results of March 2001 sampling event are summarized in the Revised Final Monitoring Program Report: Notice of Completion for the Hopkins Farm Superfund Site, dated August 24, 2001.

6. EPA consulted with the NJDEP on the deletion of the Site from the NPL prior to developing this Direct Final Deletion.

7. The State of New Jersey, through the NJDEP, concurred with the deletion of the Site from the NPL on May 14, 2002.

8. Concurrently with the publication of this Direct Final Deletion, a parallel Notice of Intent to Delete has been published today in the Notice section of the Federal Register. Notices are also being published in a local newspaper and appropriate notice is being provided to federal, state and local government officials, and other interested parties.

9. EPA placed copies of documents supporting the deletion in the Site information repositories identified above.

10. If no significant adverse comments are received, the Site will be deleted. If significant adverse comments are received within the 30-day public comment period on this action, EPA will publish a timely notice of withdrawal of this Direct Final Deletion before its effective date. EPA will prepare, if appropriate, a response to comments and continue with the deletion process on the basis of the Notice of Intent to Delete and the comments already received.

Deletion of the Site from the NPL does not itself create, alter, or revoke any individual's rights or obligations. Deletion of the Site from the NPL does not in any way alter EPA's right to take enforcement actions, as appropriate. The NPL is designed primarily for informational purposes and to assist EPA management. Section 300.425(e)(3) of the NCP states that the deletion of a site from the NPL does not preclude eligibility for future response actions, should future conditions warrant such action.

IV. Basis for Site Deletion

Background

The Hopkins Farm Site is located approximately one-quarter mile north of State Highway Routes 528 and 539, on the east side of Route 539, in Plumsted Township, Ocean County, New Jersey. It is located on Block 46, Lot 16 in Plumsted Township and is privately owned. The Site property consists of approximately 57 acres of which less than one acre was previously used to dispose of waste materials. The Site is bordered on the west by Route 539 and on the other sides by undeveloped, wooded lots. On the southwest portion of the Site is a farm. The area surrounding the Site is rural-residential and approximately 1,000 residences are located within a one mile radius of the Site.

The Hopkins Farm Site was allegedly used to dispose of chemical wastes from Morton during the late 1950s and early 1960s. Investigations of the Site by the Ocean County Health Department, Plumsted Township representatives and NJDEP began in 1980 and detected groundwater contamination and evidence of waste dumping, such as laboratory glassware, rusted pails, chemical materials and household wastes were found on the bank of a stream located at the Site. Most of the industrial waste consisted of a rubbery, tar-like material that covered the bottom of what appears to be a natural depression.

The Site was placed on the NPL on September 1, 1984. In 1987, the NJDEP established a Well Restriction Area to prevent new potable wells from withdrawing potential contaminated groundwater.

Selected Remedy

The RI for the Site was conducted by NJDEP in two phases from 1987 through 1991. The RI included: A geophysical survey; a soil gas survey; waste material investigations; soil, groundwater, surface water, and sediment sampling; and, a qualitative health and environmental risk assessment.

Based on the findings of the RI, on August 23, 1991, NJDEP entered into an Administrative Consent Order with Morton to conduct a Removal Action at the Site to address surficial waste. The Removal Action was performed in two phases (Phase I and Phase II) and included the excavation and off-site disposal of waste materials, and underlying contaminated soils.

During Phase I of the Removal Action, in July and August 1992, 841.95 tons (565 cubic yards) of waste materials were excavated and transported off-Site for treatment by stabilization and then disposed of in a hazardous waste landfill. Post Removal Action sampling performed in November 1992 and January 1993 indicated that elevated concentrations of a number of compounds were present in the soil. Based on the elevated contamination remaining in the soil, a second phase of the removal action was performed in June 1994. Phase II removal activities resulted in the excavation and off-Site disposal of 599.45 tons (450 cubic yards) of subsurface soils. Phase II included soil excavation down to and within the saturated zone in impacted areas. Soil samples taken around the edges of the excavation during the Removal Action confirmed that the full extent of lateral contamination had been addressed. The Site was then backfilled with clean soil.

Following the Removal Action, in July 1996, EPA completed human health and ecological risk assessments for the Site. The result of the human health and ecological risk assessments indicated that the Site, as it existed after the Removal Action, did not present significant risks to human health or the environment.

The ROD for the Hopkins Farm Site was issued by EPA, with NJDEP's concurrence, on September 27, 1996. In the ROD, EPA determined that no further remedial action was necessary at the Site. The removal of chemical and industrial waste materials from the Site was successful in remediating the principal threats associated with the Site. As part of the no further action remedy, a long-term monitoring program was required. The long-term monitoring program included the collection of groundwater, surface water, and sediment samples. In addition, the ROD required Site restoration planting.

On September 24, 1997, EPA entered into an Administrative Order on Consent (the Order) with Morton to implement the monitoring components of the selected remedy.

Between July 1998 and April 1999, Morton (a subsidiary of Rohm & Haas) conducted four (4) monitoring events at the Site.

Based on the results of the four monitoring events, EPA modified the monitoring program to require Rohm & Haas to perform one additional round of groundwater monitoring. On March 8 and 9, 2001, Rohm & Haas collected and analyzed the required groundwater samples. The results of March 2001 sampling event are summarized in the August 24, 2001 report titled, Revised Final Monitoring Program Report: Notice of Completion for the Hopkins Farm Superfund Site.

After the completion of all monitoring events, EPA determined that all groundwater, soil, sediment, and surface water samples met Federal and State standards, except for some elevated levels of iron and aluminum found in a limited number of groundwater monitoring wells.

EPA evaluated the potential risk associated with the iron and aluminum concentrations in the groundwater at the site. Based on this evaluation, EPA concluded that it is unlikely that exposure to iron and aluminum levels in the groundwater would result in any adverse health effects.

Public participation activities have been satisfied as required in CERCLA section 113(k), 42 U.S.C. 9613(k), and CERCLA Section 117, 42 U.S.C. 9617. Documents in the deletion docket which EPA relied on for recommendation of the deletion from the NPL are available to the public in the information repositories.

V. Deletion Action

The EPA, with the concurrence of the NJDEP, has determined that all appropriate responses under CERCLA have been completed, and that no further response actions under CERCLA are necessary and this site is suitable for unlimited use with unrestricted exposure. Further, any groundwater withdrawals will be subjected to State and Local requirements which protect public health in accordance with the Safe Drinking Water Act and other State and local requirements. Therefore, EPA is deleting the Hopkins Farm Site from the NPL.

List of Subjects in 40 CFR Part 300

Environmental protection, Air pollution control, Chemicals, Hazardous waste, Hazardous substances, Intergovernmental relations, Penalties, Reporting and recordkeeping requirements, Superfund, Water pollution control, Water Supply.

Dated: June 14, 2002.
Jane M. Kenny,
Regional Administrator, U.S. EPA, Region 2.

For the reasons set out in this document 40 CFR part 300 is amended as follows:

PART 300—[AMENDED]

1. The authority citation for part 300 continues to read as follows:

Authority: 33 U.S.C. 1321(c)(2); 42 U.S.C. 9601-9675; E.O. 12777, 56 FR 54757, 3 CFR, 1991 Comp., p. 351; E.O.12580, 52 FR 2923, 3 CFR, 1987 Comp., p. 193.

Appendix B—[Amended]

2. Table 1 of Appendix B to Part 300 is amended under New Jersey (NJ) by removing the Site entry for “Hopkins Farm, Plumstead Township”.

[FR Doc. 02-16268 Filed 6-27-02; 8:45 am]

BILLING CODE 6560-50-P